DEPARTMENT OF HOUSING AND URBAN DEVELOPMENT

[Docket No. FR-6271-N-07]

Final Determination: Adoption of Energy Efficiency Standards for New Construction of HUD- and USDA-Financed Housing; Additional Extension of HUD Compliance Dates

AGENCY: Department of Housing and Urban Development (HUD).

ACTION: Notice; extension of compliance dates.

SUMMARY: On April 26, 2024, HUD and the U.S. Department of Agriculture published the “Final Determination: Adoption of Energy Efficiency Standards for New Construction of HUD- and USDA-Financed Housing” Notice (Final Determination) in the Federal Register. The Final Determination provides compliance dates for HUD programs covered by the Final Determination. On March 10, 2025, HUD published a Notice of Extension of Compliance Dates in the Federal Register for covered projects in the following HUD programs: Federal Housing Administration-Insured (FHA-Insured) Multifamily, FHA-Insured Single Family, Public Housing Capital Fund, and Competitive Grants (Choice Neighborhoods, Section 202, Section 811) and Section 8 Project Based Vouchers (PBV). That notice was followed by a notice of an additional extension that was published in the Federal Register on November 10, 2025. This notice provides an additional extension of the compliance dates for these programs as specified below beyond the dates set forth in the November 10, 2025, notice.

DATES: Applicable February 3, 2026.

FOR FURTHER INFORMATION CONTACT: Bryan Horne, Deputy Assistant Secretary, Office of Community Planning and Development, Department of Housing and Urban Development, 451 7th Street SW, Room 7272, Washington, DC 20410, telephone number 202-402-4270 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

I. Background

On April 26, 2024, HUD and the U.S. Department of Agriculture published the Final Determination (89 FR 33112), which adopted the 2021 edition of the International Energy Conservation Code (IECC) and the 2019 edition of ANSI/ASHRAE/IES Standard 90.1: Energy Standard for Buildings, Except Low-Rise Residential Buildings (ASHRAE 90.1) as the minimum energy standards for new construction of buildings in programs covered by section 109 of the Cranston-Gonzalez National Affordable Housing Act of 1990 (42 U.S.C. 12709), as amended by the Energy Independence and Security Act of 2007 (EISA) (Pub. L. 110-140).

In Section VI of the Final Determination, the Departments provided Table 32, which lists compliance dates for the updated energy efficiency standards, also available with further guidance for HUD programs at https://www.hudexchange.info/programs/minimum-energy-standards/.

On March 10, 2025, HUD published “Final Determination: Adoption of Energy Efficiency Standards for New Construction of HUD- and USDA-Financed Housing; Extension of HUD Compliance Dates” (90 FR 11622), which extended the compliance dates for the following HUD programs: Federal Housing Administration-Insured (FHA-Insured) Multifamily, FHA-Insured Single Family, Public Housing Capital Fund, and Competitive Grants (Choice Neighborhoods, Section 202, Section 811), and Section 8 Project Based Vouchers. As explained in the March 10 extension notice, HUD did not extend the compliance dates for HOME and Housing Trust Fund because those dates had already passed.

On July 7, 2025, HUD and USDA published “Adoption of Energy Efficiency Standards for New Construction of HUD- and USDA-Financed Housing; Notice for Comment” (90 FR 29882), in which the agencies announced that they intend to review the analysis contained in the Final Determination and requested additional public comment to inform such review. The agencies received nearly 100 public comments in response to the notice. Subsequent to that notice, HUD published an additional extension of the compliance dates on November 10, 2025 (90 FR 50750).

II. Additional Delay of Compliance Dates

HUD is providing an additional delay of the HUD compliance dates that have not yet passed. The compliance dates for the following HUD programs are extended until December 31, 2026: Federal Housing Administration-Insured (FHA-Insured) Multifamily, FHA-Insured Single Family, Public Housing Capital Fund, and Section 8 Project Based Vouchers. The deadline for the Competitive Grants (Choice Neighborhoods, Section 202, Section 811) is extended until the publication of the respective program NOFOs for FY2026.

The additional delay provided by this notice will provide time for the agencies to fully consider the public comments received in response to the July 7 Notice for Comment. In this regard, the Department notes the request from a national building industry advocacy organization for an additional extension of the compliance dates. The additional delay for Section 8 Project Based Vouchers will allow time for HUD to solicit comment and develop and publish further guidance on compliance for Section 8 PBV.

As with the March 10 and November 10 extensions, HUD is not by this notice amending the compliance date for the HOME Investment Partnerships Program (HOME) and the Housing Trust Fund (HTF) Program, which has already passed. As stated on HUD Exchange, if HOME and HTF projects receive layered funding with other HUD funds covered by this notice as listed in the table below, the later compliance date applies. HUD confirms that HOME and HTF projects with funding from a program covered by this compliance date extension do not have to comply with the Final Determination until the new extended date. See https://www.hudexchange.info/programs/minimum-energy-standards/ for more information. Program participants who may have difficulty meeting compliance dates that have already passed should contact HUD.

The updated compliance dates are as follows:

Program | Initiation event | Compliance date
HOME and HTF (If HOME/HTF funding is layered with other HUD funds, the later program compliance date applies) | Participating Jurisdiction (PJ) or HTF Grantee Funding Commitment | November 28, 2024.
Federal Housing Administration-Insured (FHA-Insured) Multifamily | Pre-application Submitted to HUD | December 31, 2026.
FHA-Insured Single Family | Building Permit Application | December 31, 2026.
Public Housing Capital Fund | HUD approvals of development proposals for new Capital Fund or mixed financed projects | December 31, 2026.
Project Based Vouchers | To be determined in further guidance | December 31, 2026.
Competitive Grants (Choice Neighborhoods, Section 202, Section 811) | Notice of Funding Opportunity (NOFO) Publication | Upon publication of FY2026 NOFO for each respective program.
All programs, persistent poverty rural areas | Based on program-specific event, above | December 31, 2026.
Rental Assistance Demonstration (RAD) | N/A | Already effective by Federal Register Notice and program notice.

III. Findings and Certifications

Environmental Impact

This notice provides updated compliance deadlines for the Final Determination. A Finding of No Significant Impact (FONSI) was prepared for the preliminary determination that preceded the Final Determination and remained applicable to the Final Determination. That FONSI is also applicable to this notice. Accordingly, under 24 CFR 50.19(c)(4) this notice is categorically excluded from environmental review under the National Environmental Policy Act of 1969 (42 U.S.C. 4321).

Scott Turner,
Secretary.

[FR Doc. 2026-02184 Filed 2-2-26; 8:45 am]

BILLING CODE 4210-67-P